DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of May 14, 2012 through May 18, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,504 | Allied Tube & Conduit, Morrisville Plant, Atkore International, Manpower | Morrisville, PA | April 5, 2011.

The following certifications have been issued. The requirements of Section 222(a)(2)(B) (shift in production or services) of the Trade Act have been met.

TA-W No. | Subject firm | Location | Impact date
81,413 | Merck Sharp & Dohme Corporation, Merck Research Labs, Disease Area Biology, In Vitro/In Vivo, etc | Kenilworth, NJ | March 12, 2011.
81,451 | AT&T Service, Inc., Mobility & U-Verse Delivery Division, AT&T, Inc., eCAM and Mastech, Inc | Dallas, TX | March 10, 2012.
81,474 | Wellpoint, CS90 Claims Processing, Kelly Services & Aerotek Staffing & Remote, etc | Albany, NY | April 2, 2011.
81,477 | Verizon Business Network Services, Inc., Service Assurance Department | Tulsa, OK | March 28, 2011.
81,486 | First Advantage, Select Business Services, (UI) Wages Accufacts Pre Employment Screening | St. Petersburg, FL | April 2, 2011.
81,496 | Standard Motor Products, Inc., Wire and Cable Division | Mishawaka, IN | March 17, 2011.
81,500 | StarTek USA, Inc., Staffmark East, LLC | Jonesboro, AR | March 27, 2011.
81,501 | The Travelers Indemnity Company, Personal Insurance Division, Account Analyst Operations | Knoxville, TN | April 5, 2011.
81,518 | Maersk Agency USA, Inc., A.P. Moller-Maersk, Finance Division, Remx and Remote Workers in New Jersey | Charlotte, NC | April 13, 2011.
81,521 | Journal Register East, Circulation Customer Service, Journal Register Company | New Haven, CT | April 9, 2011.
81,533 | CDR Systems Corp., Aventure Staffing | Estherville, IA | April 24, 2011.
81,547 | Joerns Healthcare, LLC, Stevens Point, Wisconsin Division, ABR and Aerotek | Stevens Point, WI | April 25, 2011.
81,580 | Sanofi-Aventis US LLC, Sanofi Pharmaceuticals, Industrial Affairs Division, Pro-Unlimited | Kansas City, MO | July 3, 2012.
81,610 | Infinite Convergence Solutions, Inc., Platform Division, Infinite Computer Solutions, Inc | Westford, MA | May 11, 2011.

The following certifications have been issued. The requirements of Section 222(c) (supplier to a firm whose workers are certified eligible to apply for TAA) of the Trade Act have been met.

TA-W No. | Subject firm | Location | Impact date
81,454 | SIC Processing USA, LP, Express Personnel and De Paul Industries, (UI) Wages were through XEN 1 | Portland, OR | March 23, 2011.
81,454A | SIC Processing USA, LP, Solar World, Express Personnel and De Paul Industries, (UI) Wages XEN 1 | Hillsboro, OR | March 23, 2011.
81,509 | Parkdale America, LLC, Plant 30, Serve Source/Defender Services | Hillsville, VA | March 22, 2011.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W No. | Subject firm | Location | Impact date
81,431 | Motorola Solutions, Inc., Enterprise Mobility Solutions, Astro System Integration and Test | Schaumburg, IL.
81,508 | Burris, Incorporated | Spartanburg, SC.
81,570 | Sapa Inc. | Parsons, KS.

The investigation revealed that the criteria under paragraphs (a)(2)(A) (increased imports) and (a)(2)(B) (shift in production or services to a foreign country) of section 222 have not been met.

TA-W No. | Subject firm | Location | Impact date
81,387 | Eastman Kodak Company, IPS—Dayton Location | Dayton, OH.
81,448 | General Dynamics Itronix Corporation, General Dynamics Corporation, Remote Workers Reporting to Sunrise, Florida | Sunrise, FL.
81,455 | Abound Solar, Inc., Aerotek | Longmont, CO.
81,461 | LiteSteel Technologies America, LLC, Renick Group, Labor Finders, etc., Chase Professionals and API Group | Troutville, VA.
81,471 | SNE Enterprises, Inc., Peachtree Companies, Inc. | Mosinee, WI.
81,475 | Huntington Foam LLC | Fort Smith, AR.
81,476 | Wells Fargo Bank, National Association, Subsidiary of Wells Fargo & Company, Wells Fargo Bank's Consumer Lending | Fort Dodge, IA.

Determinations Terminating Investigations of Petitions for Worker Adjustment Assistance

After notice of the petitions was published in the Federal Register and on the Department's Web site, as required by Section 221 of the Act (19 U.S.C. 2271), the Department initiated investigations of these petitions.

The following determinations terminating investigations were issued because the petitions are the subject of ongoing investigations under petitions filed earlier covering the same petitioners.

TA-W No. | Subject firm | Location | Impact date
81,613 | WellPoint, Inc., Care Management UM Intake | Newbury Park, CA

I hereby certify that the aforementioned determinations were issued during the period of May 14, 2012 through May 18, 2012. These determinations are available on the Department's Web site tradeact/taa/taa search form.cfm under the searchable listing of determinations or by calling the Office of Trade Adjustment Assistance toll free at 888-365-6822.

Dated: May 23, 2012.
Elliott S. Kushner,
Certifying Officer, Office of Trade Adjustment Assistance.

[FR Doc. 2012-13587 Filed 6-5-12; 8:45 am]

BILLING CODE 4510-FN-P